DEPARTMENT OF THE INTERIOR

Fish and Wildlife Service

[FWS-HQ-R-2016-N177; FXRS126109HD000-167-FF09R23000]

Information Collection Request Sent to the Office of Management and Budget (OMB) for Approval; Revealing Opportunities for Local-Level Stakeholder Engagement and Social Science Inquiry in Landscape Conservation Design

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. We may not conduct or sponsor and a person is not required to respond to a collection of information unless it displays a currently valid OMB control number.

DATES: You must submit comments on or before November 17, 2016.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or tina_campbell@fws.gov (email). Please include “1018-LCD” in the subject line of your comments.

FOR FURTHER INFORMATION CONTACT: To request additional information about this ICR, contact Tina Campbell at tina_campbell@fws.gov (email) or 703-358-2676 (telephone). You may review the ICR online at http://www.reginfo.gov. Follow the instructions to review Department of the Interior information collections under review by OMB.

SUPPLEMENTARY INFORMATION:

Information Collection Request

OMB Control Number: 1018-XXXX.

Title: Revealing Opportunities for Local-Level Stakeholder Engagement and Social Science Inquiry in Landscape Conservation Design.

Service Form Number: None.

Type of Request: Request for a new OMB control number.

Description of Respondents: Individuals, private sector, and State and local governments.

Respondent's Obligation: Voluntary.

Frequency of Collection: One time.

Activity | Number of annual responses | Completion time per response (10 minutes for initial contact + 60-minute interview) | Total annual burden hours (rounded)
Complete Interview—Individuals | 5 | 70 minutes | 6
Complete Interview—Private Sector | 35 | 70 minutes | 41
Complete Interview—State, Local, and Tribal Governments | 50 | 70 minutes | 58.3
Total | 90 |  | 105

Estimated Annual Nonhour Burden Cost: None.

Abstract: We have entered into a cooperative agreement with Cornell University to study the role of local stakeholder engagement and social data integration in Landscape Conservation Design (LCD) planning and implementation processes. Promoting ecosystem-level conservation based on LCD will rely on engaging local stakeholders, i.e., local community members and locally based interest groups potentially impacted by conservation actions, in conservation design, planning, and implementation processes. To date, no systematic assessment of local stakeholders' role in LCD has been conducted. Lacking such assessment, questions remain as to what, when, and where social data (related to stakeholders' values, interests, and knowledge) and public engagement (the direct participation of stakeholders in information sharing and decision making) are most valuable in LCD processes. Information gathered in this study will provide essential, non-duplicative data and insights for ongoing and future LCD efforts. In addition to literature review and participant observation, this study will employ a multiple case study approach focused on three LCD efforts. We will conduct semi-structured interviews of 90 non-Federal LCD partners and local stakeholders to ascertain how LCD efforts have attempted to integrate social information, how these efforts have worked, and how they might be improved under varying social-ecological conditions.

Comments Received and Our Responses

On May 19, 2016, we published in the Federal Register (81 FR 31654) a notice of our intent to request that OMB approve this information collection. In that notice, we solicited comments for 60 days, ending on July 18, 2016. We received two comments from the same individual in response to that notice. The commenter did not address the information collection requirements.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Submitting Comments

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Tina A. Campbell,
Chief, Division of Policy, Performance, and Management Programs, U.S. Fish and Wildlife Service.

[FR Doc. 2016-25108 Filed 10-17-16; 8:45 am]

BILLING CODE 4333-15-P